DEPARTMENT OF COMMERCE

National Oceanic and Atmospheric Administration

[RTID 0648-XE640]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Gulf Council) and South Atlantic Fishery Management Council (South Atlantic Council) will hold a joint in-person meeting of their Standing Scientific and Statistical Committees (SSCs), followed by an in-person meeting of the Gulf Council's SSC.

DATES: The meeting will be held Tuesday, February 25, 2025 through Thursday, February 27, 2025; 8:30 a.m.-5 p.m., EST, daily.

ADDRESSES: The meeting will take place at the Gulf Council office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, February 25, 2025; 8:30 a.m.-5 p.m., EST

The meeting will begin in a Joint Meeting of the Gulf and South Atlantic SSCs with Introductions, and Adoption of the Agenda and Scope of Work. The SSCs will review and discuss the SEDAR 79: Southeastern U.S. Mutton Snapper Stock Assessment, followed by the SEDAR 96: Southeastern U.S. Yellowtail Snapper Stock Assessment. These assessment agenda items will include presentations, Gulf Fisherman Feedback, South Atlantic Fishery Performance Reports, background materials and SSC discussion. The SSCs will then review the South Atlantic Council's Acceptable Biological Catch (ABC) Control Rule.

Public comments will be heard at the end of the day, if any.

Wednesday, February 26, 2025; 8:30 a.m.-5 p.m., EST

The Standing SSCs will return in a joint session to review and discuss SEDAR 79: Southeastern U.S. Mutton Snapper Catch Limit Projections and SEDAR 96: Southeastern U.S. Yellowtail Snapper Catch Limit Projections, including presentations and SSC discussions.

Following lunch, the Gulf SSC will convene to review and approve summary minutes from its December 2024 webinar meeting. The Gulf SSC will also review the SEDAR 88 Stock Assessment of Gulf Red Grouper, including a presentation, Gulf Fisherman Feedback, background materials and SSC discussion. The Gulf SSC will then discuss the SEDAR 100: Gulf Gray Triggerfish Participants for the Data, Assessment and Review Phases. The Gulf SSC will next review the SEDAR 88 Projections for Red Grouper, including a presentation and SSC discussions. Public comments will be heard at the end of the day, if any.

Thursday, February 27, 2025; 8:30 a.m.-5 p.m., EST

The Gulf SSC will review results from Return `Em Right Studies. They will review: Determination of Predation Mortality, Barotrauma Survival, and Emigration Patterns for Catch-and-released Red Snapper; Do Descender Devices Increase Opportunities for Depredation? A Gulf-wide Examination of Descender Device Depredation Rates and Depredating Species; Mitigation of Gag Release Mortality in the Eastern Gulf of Mexico; Awareness, Attitudes, Perceptions, and Use of Best Fishing Practices by Recreational Reef Anglers in the Gulf of Mexico. Review of these studies will include presentations, background manuscripts, and SSC discussions.

Following lunch, the Gulf SSC will review: Florida At-sea Observer Data Collection Methods, Results and Analysis; Alabama At-sea Observer Data Collection Methods, Results and Analysis; Mississippi At-sea Observer Data Collection Methods, Results and Analysis; Louisiana and Texas Expansion of At-sea Observer Data Collection Methods, Results and Analysis. These reviews will include presentations, background manuscripts and SSC discussions.

The Gulf SSC will receive an update on Ongoing Projects, review of Best Release Practices Manual for Reef Fish and Related Species, and offer SSC Recommendations on the Use of Return `Em Right Science for Informing Fisheries Management. Public comments will be heard at the end of the day, if any.

The Gulf SSC will then review Other Business, including SEDAR 87 Review Workshop Volunteers and SEDAR 98 Assessment Process and Review Workshop Volunteers.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during these meetings. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C 1801 et seq.

Dated: January 29, 2025.
Rey Israel Marquez,
Acting Deputy Director, Office of Sustainable Fisheries, National Marine Fisheries Service.

[FR Doc. 2025-02136 Filed 2-3-25; 8:45 am]

BILLING CODE 3510-22-P